DEPARTMENT OF THE INTERIOR

Central Utah Project Completion Act

AGENCY: Department of the Interior, Office of the Assistant Secretary—Water and Science.

ACTION: Extension of public comment period, Draft Environmental Impact Statement (DEIS), Lower Duchesne River Wetlands Mitigation Project, Duchesne and Uintah Counties, Utah.

SUMMARY: On November 24, 2003, the Department of the Interior (Department) and Utah Reclamation Mitigation and Conservation Commission (Mitigation Commission) announced the availability for public review and comment of the Draft DEIS for the Lower Duchesne River Wetlands Mitigation Project (68 FR 65943). This project has been planned in conjunction with the Ute Indian Tribe of the Uintah and Ouray Agency and is intended to fulfill long-standing commitments to mitigate for impacts to Ute Indian tribal and non-tribal wetland-wildlife habitats arising from construction and operation of the Bonneville Unit, and to provide additional wetland/wildlife benefits to the Ute Indian Tribe. The Proposed Action and alternatives improve existing, and restore prior existing, wetlands to replace wetland resources, especially Ute Indian Tribal resources, lost or adversely impacted by the Bonneville Unit, Central Utah Project. Three public meetings were announced and the public was invited to submit comments on the adequacy of the DEIS and the assessment of environmental impacts until January 16, 2004. Based on comments received, the Department and Mitigation Commission have decided to extend the public comment period until February 17, 2004. Comments already received will remain on file and need not be resubmitted.

DATES: The public is invited to submit written comments on the Draft Environmental Impact Statement (DEIS), Lower Duchesne River Wetlands Mitigation Project until February 17, 2004.

ADDRESSES: Comments on the DEIS should be addressed to: Mr. Ron Groves, Director, Wissiups Wetlands Project, Ute Indian Tribe, P.O. Box 190, Ft. Duchesne, Utah 84026.

FOR FURTHER INFORMATION CONTACT: Copies of the Draft EIS and the resource technical reports can be obtained by contacting Mr. Ron Groves, Director, Wissiups Wetlands Project, Ute Indian Tribe, P.O. Box 190, Ft. Duchesne, Utah 84026, Telephone: (435) 722-5867, E-mail address: wetlands@ubtanet.com.

Copies of the DEIS are also available for inspection at:

Utah Reclamation Mitigation and Conservation Commission, 102 West 500 South, Suite 315, Salt Lake City, Utah 84101.

Department of the Interior, Central Utah Project Completion Act Office, 302 East 1860 South, Provo, Utah 84606.

Department of the Interior, Natural Resource Library, 1849 C Street, NW., Washington, DC 20240.

Duchesne County Library, 70 East Lagoon, Roosevelt, Utah 84066.

Headquarters, Ute Indian Tribe of the Uintah and Ouray Agency, 988 South 7500 East, Ft. Duchesne, Utah 84026.

Information on other matters related to this notice may be obtained by calling or writing Mr. Ralph G. Swanson, Program Coordinator, CUP Completion Act Office, Department of the Interior, 302 East 1860 South, Provo UT 84606-6154, Telephone (801) 379-1254, E-mail address: rswanson@uc.usbr.gov.

Dated: January 16, 2004.
Ronald Johnston,
CUP Program Director, Department of the Interior.

[FR Doc. 04-2400 Filed 2-4-04; 8:45 am]

BILLING CODE 4310-RK-P